DEPARTMENT OF HOUSING AND URBAN DEVELOPMENT

[Docket No. FR-5701-D-01]

Designations of Chief Acquisition Officer and Senior Procurement Executive

AGENCY: Office of the Secretary, HUD.

ACTION: Notice of designations and delegation of authority.

SUMMARY: Section 7(d) of the Department of Housing and Urban Development Act, as amended, authorizes the Secretary to delegate functions, powers, and duties as the Secretary deems necessary. In this notice the Secretary of HUD designates the Deputy Secretary as the Chief Acquisition Officer and designates the Chief Procurement Officer as the Senior Procurement Executive.

DATES: Effective Date: July 24, 2013.

FOR FURTHER INFORMATION CONTACT: Lisa D. Maguire, Assistant Chief Procurement Officer for Policy and Systems, Office of the Chief Procurement Officer, Department of Housing and Urban Development, 451 7th Street SW., Room 5276, Washington, DC 20410-3000; telephone number 202-708-0294 (this is not a toll-free number). Persons with hearing or speech impairments may access this number through TTY by calling the toll-free Federal Relay Service at 800-877-8339.

SUPPLEMENTARY INFORMATION: This notice includes the Department's designations of the Chief Acquisition Officer and Senior Procurement Executive. Previously, the designations were set forth in a Federal Register notice published on August 30, 2011 (76 FR 53936). Accordingly, the Secretary hereby revokes the August 30, 2011, designations and designates as follows:

Section A. Designation of Chief Acquisition Officer

1. The Deputy Secretary is designated to serve as the Department's Chief Acquisition Officer. Functions of the Chief Acquisition Officer are outlined at 41 U.S.C. 414. If the Deputy Secretary position is vacant, the Senior Procurement Executive will perform all of the duties and functions of the Chief Acquisition Officer.

2. The authority of the Chief Acquisition Officer includes the authority to redelegate any of the duties and functions of the Chief Acquisition Officer to the Senior Procurement Executive. Such delegations will be made via separate notice published in the Federal Register. Any functions not delegated to the Senior Procurement Executive remain with the Chief Acquisition Officer.

Section B. Designation of Senior Procurement Executive

1. The Chief Procurement Officer is designated as the Department's Senior Procurement Executive.

2. The Senior Procurement Executive shall report directly to the Deputy Secretary, without intervening authority, for all procurement-related matters.

3. The authority of the Senior Procurement Executive includes the authority to redelegate the duties and functions of the Senior Procurement Executive.

Section C. Authority Superseded

This designation revokes and supersedes all previous designations concerning the Chief Acquisition Officer and Senior Procurement Executive.

Authority: 41 U.S.C. 414; section 7(d) of the Department of Housing and Urban Development Act (42 U.S.C. 3535(d)).

Dated: July 24, 2013.
Shaun Donovan,
Secretary.

[FR Doc. 2013-18291 Filed 7-29-13; 8:45 am]

BILLING CODE 4210-67-P